DEPARTMENT OF COMMERCE

National Oceanic and Atmospheric Administration

RIN 0648-XQ74

Endangered and Threatened Species; Initiation of a Status Review for the Humpback Whale and Request for Information

AGENCY: National Marine Fisheries Service (NMFS), National Oceanic and Atmospheric Administration, Commerce.

ACTION: Notice of initiation of a status review; request for information.

SUMMARY: The National Marine Fisheries Service (NMFS) announces a status review of the humpback whale (Megaptera novaeangliae) under the Endangered Species Act of 1973 (ESA). A status review is a periodic undertaking conducted to ensure that the listing classification of a species is accurate. A status review is based on the best scientific and commercial data available at the time of the review; therefore, we are requesting submission of any such information on the all humpback whale populations in all waters worldwide that has become available since the last humpback whale status review in 1999. Based on the results of this review, we will make the requisite findings under the ESA.

DATES: To allow us adequate time to conduct these reviews, we must receive your information no later than October 13, 2009. However, we will continue to accept new information about any listed species at any time.

ADDRESSES: You may submit comments, identified by the code 0648-XQ74, addressed to Shannon Bettridge by any of the following methods:

1. Electronic Submissions: Submit all electronic comments via the Federal eRulemaking Portal http://www.regulations.gov.

2. Facsimile (fax): 301-713-0376, Attn: Shannon Bettridge.

3. Mail: Shannon Bettridge, National Marine Fisheries Service, Office of Protected Resources, 1315 East-West Highway, Silver Spring, MD 20910.

FOR FURTHER INFORMATION CONTACT: Shannon Bettridge at the above address, or at 301-713-2322.

SUPPLEMENTARY INFORMATION: Under the ESA, a list of endangered and threatened wildlife and plant species must be maintained. The list is published at 50 CFR 17.11 (for animals) and 17.12 (for plants). Section 4(c)(2)(A) of the ESA requires that we conduct a review of listed species at least once every five years. On the basis of such reviews under section 4(c)(2)(B), we determine whether a particular species should be removed from the list (delisted), or reclassified from endangered to threatened, or from threatened to endangered. Delisting a species must be supported by the best scientific and commercial data available, substantiating that the species is neither endangered nor threatened for one or more of the following reasons: (1) the species is considered extinct; (2) the species is considered to be recovered; and/or (3) the original data available when the species was listed, or the interpretation of such data, were in error. Any change in Federal classification would require a separate rulemaking process. The regulations in 50 CFR 424.21 require that we publish a notice in the Federal Register announcing those species currently under active review. This notice announces active reviews of the humpback whale, currently listed globally as endangered.

Public Solicitation of New Information

To ensure that the review is complete and based on the best available scientific and commercial information, we are soliciting new information from the public, relevant governmental agencies, tribes, the scientific community, industry, environmental entities, and any other interested parties concerning the status of the humpback whale.

Status reviews consider the best scientific and commercial data and all new information that has become available since the listing determination or most recent status review. Categories of requested information include: (1) species biology including, but not limited to, population trends, distribution, abundance, demographics, and genetics; (2) habitat conditions including, but not limited to, amount, distribution, and suitability; (3) conservation measures that have been implemented that benefit the species; (4) status and trends of threats; and (5) other new information, data, or corrections including, but not limited to, taxonomic or nomenclatural changes, identification of erroneous information contained in the list, and improved analytical methods.

Because these species are vertebrate species, we will also be considering application of the Distinct Population Segment (DPS) policy for vertebrate taxa. A DPS is defined in the February 7, 1996, Policy Regarding the Recognition of Distinct Vertebrate Population Segments (61 FR 4722). For a population to be listed under the ESA as a DPS, three elements are considered: (1) the discreteness of the population segment in relation to the remainder of the species to which it belongs; (2) the significance of the population segment to the species to which it belongs; and (3) the population segment=s conservation status in relation to the ESA=s standards for listing (i.e., is the population segment endangered or threatened?). DPSs of vertebrate species, as well as subspecies of all listed species, may be proposed for separate reclassification or for removal from the list.

If you wish to provide information on the humpback whale in the northern and/or southern hemispheres for this status review, you may submit your information and materials to Shannon Bettridge (see ADDRESSES section).

Authority: 16 U.S.C. 1531 et seq.

Dated: August 5, 2009.
James H. Lecky,
Office Director, Office of Protected Resources, National Marine Fisheries Service.

[FR Doc. E9-19336 Filed 8-11-09; 8:45 am]

BILLING CODE 3510-22-S